DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of September 5, 2016 through September 16, 2016.

In order for an affirmative determination to be made for workers of a primary firm and a certification issued regarding eligibility to apply for worker adjustment assistance, each of the group eligibility requirements of Section 222(a) of the Act must be met.

I. Under Section 222(a)(2)(A), the following must be satisfied:

(1) a significant number or proportion of the workers in such workers' firm have become totally or partially separated, or are threatened to become totally or partially separated;

(2) the sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) a significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
90,178 | Wingspan Portfolio Advisors, LLC | Monroe, LA | January 1, 2014.
90,242 | PSC Metals, Inc., Staffmark | London, KY | January 1, 2014.
91,080 | ATI Specialty Alloys and Components, Millersburg Operations, Allegheny Technologies Incorporated, etc | Albany, OR | October 23, 2014.
91,424 | Hydralift AmClyde, Inc., Rig Systems Offshore/Lifting and Handling Division, Randstad, Entegee | St. Paul, MN | February 2, 2015.
91,579 | Republic Steel, Value-Add Division | Massillon, OH | July 18, 2015.
91,634 | Caterpillar Emissions Solution, Large Power Systems Division, Caterpillar, Inc | Santa Fe, NM | March 28, 2015.
92,051 | Upper Columbia Mill, LLC, 71410 E Columbia Avenue, GTFF Mill Corporation, Collins Management, etc | Boardman, OR | July 25, 2015.
92,051A | Upper Columbia Mill, LLC, 77200 Poleline Road, GTFF Mill Corporation, Collins Management, etc | Boardman, OR | July 25, 2015.
92,077 | Exodus Machines, LLC | Superior, WI | August 1, 2015.
92,097 | Terex USA, LLC, Terex Cranes NA Division, Terex Corporation | Waverly, IA | August 8, 2015.

The following certifications have been issued. The requirements of Section 222(a)(2)(B) (shift in production or services) of the Trade Act have been met.

TA-W No. | Subject firm | Location | Impact date
90,209 | Primary Financial Services LLC, CBV Collection Services Ltd | Amherst, NY | January 1, 2014.
90,209A | Primary Financial Services LLC, CBV Collection Services Ltd | Cheektowaga, NY | January 1, 2014.
91,040 | Verizon Business Network Services, Inc., Client Service Assurance Group | Cary, NC | October 9, 2014.
91,041 | Nike, Inc., Procure To Pay Operations Group, Finance Department | Beaverton, OR | October 8, 2014.
91,462 | Sprint, Handset Retrieval Team | Rio Rancho, NM | February 12, 2015.
91,523 | Eaton Gainesboro, Industrial Sector, Hydraulics Group, Eaton Corporation, etc | Gainesboro, TN | February 22, 2015.
91,642 | Wells Fargo and Company, Division of Community Banking, Covenant Monitoring Unit | Diamond Bar, CA | March 29, 2015.
91,783 | Iron Mountain Information Management, LLC, Iron Mountain Incorporated, Customer Service Team, Allegis, etc | Cerritos, CA | May 5, 2015.
91,795 | York International Corporation, Industrial Refrigeration Division, Johnson Controls, Inc., Aerotek | Waynesboro, PA | May 16, 2016.
91,795A | Magic Workforce Solutions, York International Corporation, Industrial Refrigeration Division, etc | Waynesboro, PA | May 11, 2015.
91,816 | Nike Foundation, Girl Effect, Nike, Inc., Prounlimited | Beaverton, OR | May 16, 2015.
91,818 | Johnson Controls, Inc., Finance Shared Service Center | Milwaukee, WI | May 16, 2015.
91,818A | Johnson Controls, Inc., Information Technology | West Allis, WI | May 16, 2015.
91,867 | Agilent Technologies, Inc., Order Fulfillment and Supply Chain Group | Danbury, CT | May 31, 2015.
91,932 | Continental Casualty Company, Continental Corporation, Special Funds Unit & Claims Operations Unit | Syracuse, NY | June 16, 2015.
91,963 | International Business Machines Corporation (IBM), The US SPO Team, Technical Support Services, etc | Camp Hill, PA | June 20, 2015.
91,963A | Manpower, International Business Machines Corporation (IBM), The US SPO Team, etc | Camp Hill, PA | October 18, 2015.
91,964 | Mark Architectural Lighting, Acuity Brands Lighting, Inc., Spherion, Aerotek, Ajulia | Edison, NJ | June 24, 2015.
91,973 | International Business Machines Corporation (IBM), Priority Support Team, Technical Support Services, etc | Austin, TX | June 28, 2015.
91,974 | W.W. Grainger, Inc., Expeditor Team | Lake Forest, IL | June 29, 2015.
91,983 | CDK Global LLC, Hosting Solutions Division, Aerotek/Teksystems US, Apex Systems, Inc., etc | Ann Arbor, MI | July 5, 2015.
92,000 | Greatbatch, Ltd., Greatbatch, Inc., Superior Group, Volt Management Company, etc | Plymouth, MN | November 8, 2016.
92,006 | Dionex Corporation, Chromatography Analytical Technologies Division, Thermo Fisher Scientific | Chelmsford, MA | June 29, 2015.
92,012 | International Business Machines Corporation (IBM), ZKRA and ZB8A Departments, Technical Support Services, etc | Schaumburg, IL | July 13, 2015.
92,012A | International Business Machines Corporation (IBM), ZKRA and ZB8A Departments, Technical Support Services, etc | Smyrna, GA | July 13, 2015.
92,031 | JP Morgan Chase, Hedge Fund Services Division, Robert Half, Manpower, and Randstad | Brooklyn, NY | July 19, 2015.
92,049 | Leonard's Metal, Inc | Wichita, KS | July 22, 2015
92,064 | Groupon, Inc., Customer Service Department | Chicago, IL | July 27, 2015
92,067 | Overland Solutions, Inc., An EXL Company, EXL Service Holdings, Inc | Overland Park, KS | July 27, 2015.
92,081 | International Business Machines Corporation (IBM), Sales Management Support, Sales and Distribution Division | Somers, NY | August 2, 2015.
92,081A | International Business Machines Corporation (IBM), Sales Management Support, Sales and Distribution Division | Phoenix, AZ | August 2, 2015.
92,081B | International Business Machines Corporation (IBM), Sales Management Support, Sales and Distribution Division | Cincinnati, OH | August 2, 2015.
92,083 | The ESAB Group, Inc., Colfax Corporation, Manpower | Florence, SC | September 19, 2016.
92,090 | Ardagh Metal Packaging, Ardagh Group, S.A., Ajilon and Labor Ready | Terminal Island, CA | August 4, 2015.
92,091 | NMC Group, Inc. DBA Nylon Molders Corporation, Esterline Incorporated, Selec Staffing, Integrity Staffing, etc | Pomona, CA | August 4, 2015.
92,099 | Springer Science+Business Media LLC, Illustration Department | Philadephia, PA | August 9, 2015.
92,103 | ADP, LLC, Order to Invoice Division | Augusta, GA | August 9, 2015.
92,109 | Malvern Instruments Inc., Spectris Inc. | Houston, TX | August 12, 2015.
92,113 | GE Power Chattanooga Turbines, fka Alstom Power Turbomachines LLC, General Electric Company, etc | Chattanooga, TN | August 16, 2015.
92,115 | International Business Machines Corporation (IBM), Service Delivery Managers, Information Technology Service Management, etc | Hartford, CT | August 16, 2015.
92,126 | IBM, Systems Management Operations (SMO), Business Analytics Service Team, etc | Boulder, CO | August 19, 2015.
92,130 | Bloomington Production Operations, LLC, Haier U.S. Appliance Solutions, GE Appliances | Bloomington, IN | January 24, 2016.
92,131 | Compressor Controls Corporation, Manpower, Palmer Group, Networks Inc., GNET Group, and IP Pathways | Urbandale, IA | August 22, 2015.
92,136 | International Business Machines Corporation (IBM), QXZA Department, 2F Division, Global Technology Services Div (GTS), etc | Boulder, CO | August 23, 2015.
92,179 | Nortech Systems, Inc., Insperity, United Employment, Inc | Augusta, WI | September 6, 2015.

The following certifications have been issued. The requirements of Section 222(b) (supplier to a firm whose workers are certified eligible to apply for TAA) of the Trade Act have been met.

TA-W No. | Subject firm | Location | Impact date
91,608 | Harsco Metals & Minerals, North America, Koppel Plant, Harsco Corporation | Koppel, PA | March 17, 2015.

The following certifications have been issued. The requirements of Section 222(f) (firms identified by the International Trade Commission) of the Trade Act have been met.

TA-W No. | Subject firm | Location | Impact date
92,001 | Boise Packaging & Newsprint, L.L.C., Packaging Corporation of America, Boise, Inc., Boise Paper Holdings, etc | Santa Fe Springs, CA | February 22, 2015.

Negative Determinations for Worker Adjustment Assistance

In the following cases, the investigation revealed that the eligibility criteria for worker adjustment assistance have not been met for the reasons specified.

The investigation revealed that the criterion under paragraph (a)(1), or (b)(1) (employment decline or threat of separation) of section 222 has not been met.

TA-W No. | Subject firm | Location | Impact date
90,261 | Verizon, MTS Engineers and Information Technology Quality Assurance | Hempstead, NY |
90,286 | Verizon Business Network Services, Inc., Conferencing Operations | Davenport, IA |

The investigation revealed that the criteria under paragraphs (a)(2)(A)(i) (decline in sales or production, or both) and (a)(2)(B) (shift in production or services to a foreign country) of section 222 have not been met.

TA-W No. | Subject firm | Location | Impact date
91,575 | Swanson Group Manufacturing LLC, Glendale Sawmill, Glendale Plywood/Veneer Divisions, etc | Glendale, OR |
91,875 | Manitowoc Cranes, LLC, Manitowoc Company, Inc., Aerotek, FlexStaff, Waterstone, Zyqest, etc | Manitowoc, WI |

The investigation revealed that the criteria under paragraphs(a)(2)(A) (increased imports) and (a)(2)(B) (shift in production or services to a foreign country) of section 222 have not been met.

TA-W No. | Subject firm | Location | Impact date
85,355 | Chevron Mining, Inc., Chevron Corporation, Stu Blattner, Inc. (SBI) | Questa, NM.
91,041A | Nike, Inc., Corporate Services, Logistics & Services and Program/Process Excellence | Beaverton, OR.
91,327 | W.P. & R.S. Mars Company | Hibbing, MN.
91,475 | Sprint | Blountville, TN.
91,619 | Allen Harim Foods, LLC, Allen Harim, Quality Staffing Services, Express Employment, etc | Cordova, MD.
91,626 | Strata Mine Services, LLC, Sanders Contracting, LLC, Strata Products Worldwide, LLC | Canonsburg, PA.
91,874 | UnitedHealthcare, UnitedHealthcare Employer and Individual Division, etc | Richardson, TX.
91,893 | Sez Sew Stitching, Inc | Osceola Mills, PA.
91,913 | Helmerich & Payne International Drilling Company, Helmerich & Payne, Inc., RAMS Group | Tulsa, OK.
91,925 | Paragon Geophysical Services, Inc | Wichita, KS.
91,940 | Halliburton Energy Services, Inc., Drilling and Evaluation Division, Sperry Drilling Services | Bakersfield, CA.
91,969 | Silvanus Products, Inc., Employment Staffing Group, Inc. d/b/a/Talent Force | St. Genevieve, MO.
92,014 | Mahar Tool Supply Company, Inc., Kelly Services | Dundee, MI.
92,084 | Northern Industrial Erectors, Inc | Grand Rapids, MN.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
91,572 | Lehigh Specialty Melting Inc., WHEMCO, Inc | Latrobe, PA.
92,128 | FT Eng., Inc | Escondido, CA.

The following determinations terminating investigations were issued because the petitioning groups of workers are covered by active certifications. Consequently, further investigation in these cases would serve no purpose since the petitioning group of workers cannot be covered by more than one certification at a time.

TA-W No. | Subject firm | Location | Impact date
91,823 | The News & Observer, The McClatchy Company | Raleigh, NC.
92,050 | Centrex Revenue Solutions, LLC, Integra Connect, LLC | Ellicott City, MD.
92,088 | MEMC Pasadena, Inc., SunEdison, Inc | Pasadena, TX.
92,112 | Mattel, Inc., Mattel Global Shared Service Solutions (MGSSS) | East Aurora, NY.

The following determinations terminating investigations were issued because the petitions are the subject of ongoing investigations under petitions filed earlier covering the same petitioners.

TA-W No. | Subject firm | Location | Impact date
92,200 | Celestica, Inc., Adecco | Ontario, CA.

I hereby certify that the aforementioned determinations were issued during the period of September 5, 2016 through September 16, 2016. These determinations are available on the Department's Web site https://www.doleta.gov/tradeact/taa/taa_search_form.cfm under the searchable listing determinations or by calling the Office of Trade Adjustment Assistance toll free at 888-365-6822.

Signed at Washington, DC, this 18th day of November 2016.
Hope D. Kinglock,
Certifying Officer, Office of Trade Adjustment Assistance.

[FR Doc. 2016-28908 Filed 12-1-16; 8:45 am]

BILLING CODE 4510-FN-P